DEPARTMENT OF TRANSPORTATION

Federal Aviation Administration

14 CFR Part 39

[Docket No. 2001-NM-145-AD]

RIN 2120-AA64

Airworthiness Directives; McDonnell Douglas Model MD-11 Series Airplanes

AGENCY: Federal Aviation Administration, DOT.

ACTION: Notice of proposed rulemaking (NPRM).

SUMMARY: This document proposes to revise an existing airworthiness directive (AD), applicable to certain McDonnell Douglas Model MD-11 series airplanes, that currently requires a one-time inspection to identify the part numbers of two dimmer controls for the overhead instrument panel light and circuit breaker lightplate located in the flight compartment. For airplanes on which a dimmer control having an incorrect part number is installed, that AD also requires replacing the dimmer control with a new part; modifying and reinstalling the existing dimmer control; or reinstalling a dimmer control following modification of the part by the part manufacturer. That AD was prompted by reports of smoke emitting from the overhead panels in the cockpit area. The actions specified by that AD are intended to prevent an electrical failure in the overhead dimmer control due to overheating of a printed circuit board capacitor in the dimmer control, which could result in rupture of the capacitor and smoke in the flight compartment. This action would revise the term “serial numbers” in the applicability statement to “fuselage numbers.”

DATES: Comments must be received by July 26, 2001.

ADDRESSES: Submit comments in triplicate to the Federal Aviation Administration (FAA), Transport Airplane Directorate, ANM-114, Attention: Rules Docket No. 2001-NM-145-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-145-AD” in the subject line and need not be submitted in triplicate. Comments sent via the Internet as attached electronic files must be formatted in Microsoft Word 97 for Windows or ASCII text.

The service information referenced in the proposed rule may be obtained from Boeing Commercial Aircraft Group, Long Beach Division, 3855 Lakewood Boulevard, Long Beach, California 90846, Attention: Data and Service Management, Dept. C1-L5A (D800-0024). This information may be examined at the FAA, Transport Airplane Directorate, 1601 Lind Avenue, SW., Renton, Washington; or at the FAA, Los Angeles Aircraft Certification Office, 3960 Paramount Boulevard, Lakewood, California.

FOR FURTHER INFORMATION CONTACT: Brett Portwood, Aerospace Engineer, Systems and Equipment Branch, ANM-130L, FAA, Los Angeles Aircraft Certification Office, 3960 Paramount Boulevard, Lakewood, California 90712-4137; telephone (562) 627-5350; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-145-AD.” The postcard will be date stamped and returned to the commenter.

Availability of NPRMs

Any person may obtain a copy of this NPRM by submitting a request to the FAA, Transport Airplane Directorate, ANM-114, Attention: Rules Docket No. 2001-NM-145-AD, 1601 Lind Avenue, SW., Renton, Washington 98055-4056.

Discussion

On November 9, 1998, the FAA issued AD 98-24-02, amendment 39-10889 (63 FR 63402, November 13, 1998), applicable to certain McDonnell Douglas Model MD-11 series airplanes, to require a one-time inspection to identify the part numbers of two dimmer controls for the overhead instrument panel light and circuit breaker lightplate located in the flight compartment. For airplanes on which a dimmer control having an incorrect part number is installed, that AD also requires replacing the dimmer control with a new part; modifying and reinstalling the existing dimmer control; or reinstalling a dimmer control following modification of the part by the part manufacturer. That action was prompted by reports of smoke emitting from the overhead panels in the cockpit area. The requirements of that AD are intended to prevent an electrical failure in the overhead dimmer control due to overheating of a printed circuit board capacitor in the dimmer control, which could result in rupture of the capacitor and smoke in the flight compartment.

Actions Since Issuance of Previous Rule

Since the issuance of AD 98-24-02, the FAA has recognized that it inadvertently used the term “serial numbers” in the applicability statement of that AD rather than “fuselage numbers,” as identified in the effectivity of McDonnell Douglas Service Bulletin MD11-33-045, dated June 14, 1995 (which was referenced in AD 98-24-02 as the appropriate source of service information).

Explanation of Requirements of Proposed Rule

Since an unsafe condition has been identified that is likely to exist or develop on other products of this same type design, the proposed AD would revise AD 98-24-02 to reference the term “fuselage numbers” in the applicability statement, rather than serial numbers.

Cost Impact

There are approximately 174 Model MD-11 series airplanes of the affected design in the worldwide fleet. The FAA estimates that 65 airplanes of U.S. registry would be affected by this proposed AD, that it would take approximately 1 work hour per airplane to accomplish the proposed inspection, and that the average labor rate is $60 per work hour. Based on these figures, the cost impact of the proposed AD on U.S. operators is estimated to be $3,900, or $60 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10889 (63 FR 63402, November 13, 1998), and by adding a new airworthiness directive (AD), to read as follows:

McDonnell Douglas: Docket 2001-NM-145-AD. Revises AD 98-24-02, Amendment 39-10889.

Applicability: Model MD-11 series airplanes, fuselage numbers 447 through 597 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent an electrical failure in the dimmer control for the overhead instrument panel light and circuit breaker lightplate due to overheating of a printed circuit board (PCB) capacitor in the dimmer control, which could result in rupture of the capacitor and smoke in the flight compartment, accomplish the following:

Inspection and Corrective Action, If Necessary

(a) Within 30 days after November 30, 1998 (the effective date of AD 98-24-02, amendment 39-10889), perform a one-time visual inspection of the two dimmer controls for the overhead instrument panel light and circuit breaker lightplate located in the flight compartment to identify the part numbers of the dimmer controls.

(1) If all dimmer controls are identified as part number (P/N) 263-2, no further action is required by this AD.

(2) If any dimmer control is identified as P/N 263-1, within 30 days after accomplishing the inspection specified by paragraph (a) of this AD, accomplish the actions required by paragraph (a)(2)(i), (a)(2)(ii), or (a)(2)(iii) of this AD, in accordance with McDonnell Douglas Service Bulletin MD11-33-045, dated June 14, 1995.

(i) Replace any dimmer control, P/N 263-1, with a new dimmer control, P/N 263-2. Or

(ii) Modify any dimmer control, P/N 263-1, and reinstall the modified and reidentified dimmer control in the flight compartment. Or

(iii) Remove any dimmer control, P/N 263-1; return it for modification and reidentification to Olin Aerospace Company, 11441 Willows Road NE, Redmond, Washington, 98073-9745; and reinstall the modified and reidentified dimmer control in the flight compartment.

Spares

(b) As of November 30, 1998, no person shall install on any McDonnell Douglas Model MD-11 series airplane, a dimmer control, P/N 263-1, unless that dimmer control has been modified and reidentified to P/N 263-2 in accordance with McDonnell Douglas Service Bulletin MD11-33-045, dated June 14, 1995.

Alternative Methods of Compliance

(c) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 2: Information concerning the existence of approved alternative methods of compliance with this AD, if any, may be obtained from the Los Angeles ACO.

Special Flight Permits

(d) Special flight permits may be issued in accordance with sections 21.197 and 21.199 of the Federal Aviation Regulations (14 CFR 21.197 and 21.199) to operate the airplane to a location where the requirements of this AD can be accomplished.

Issued in Renton, Washington, on June 4, 2001.
Donald L. Riggin,
Acting Manager, Transport Airplane Directorate, Aircraft Certification Service.

[FR Doc. 01-14534 Filed 6-8-01; 8:45 am]

BILLING CODE 4910-13-U